DEPARTMENT OF LABOR

Office of the Secretary

Submission for OMB Review; Comment Request

September 6, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 219-8904 or email Howze-Marlene@dol.gov).

Comments should be sent to Office of Information and Regulatory Affairs, Attn: OMB Desk Officer for PWBA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Pension and Welfare Benefits Administration (PWBA).

Title: Class Exemption 81-8 for Investment of Plan Assets in Certain Types of Short-Term Investments.

OMB Number: 1210-0061.

Affected Public: Business or other for-profit; Individuals or households; and Not-for-profit institutions.

Frequency: On occasion.

Number of Respondents: 38,200.

Number of Annual Responses: 191,185.

Estimated Time Per Response: 10 minutes.

Total Burden Hours: 31,900.

Total Annualized Capital/Startup Costs: $0.

Total Annual Costs (operating/maintaining system or purchasing services): $71,000.

Description: Class Exemption 81-8 permits the investment of plan assets that involve the purchase or other acquisition, holding, sale, exchange or redemption by or on behalf of an employee benefit plan of certain types of short-term investments. Without the exemption, certain aspects of these transactions might be prohibited by section 406 of the Employee Retirement Income Security Act (ERISA).

The Department has included in the class exemption two basic disclosure requirements. The first requirement calls for the repurchase agreements between the seller and the plan to be in writing.

The second requirement obliges the seller of such repurchase agreements to provide financial statements to the plan at the time of the sale and as the statements are issued.

Type of Review: Extension of a currently approved collection.

Agency: Pension and Welfare Benefits Administration (PWBA).

Title: Prohibited Transaction Class Exemption T88-1.

OMB Number: 1210-0074.

Affected Public: Business or other for-profit; Individuals or households; and Not-for-profit institutions.

Frequency: On occasion.

Number of Respondents: 1.

Number of Annual Responses: 1.

Estimated Time Per Response: 1 hour.

Total Burden Hours: 1.

Total Annualized Capital/Startup Costs: $0.

Total Annual Costs (operating/maintaining systems or purchasing services): $0.

Description: Prohibited Transaction Class Exemption T88-1 adopts, for purposes of the prohibited transaction provisions of section 8477(c)(2) of the Federal Employees' Retirement System Act of 1986 (FERSA), certain prohibited transaction class exemptions granted pursuant to section 408(a) of ERISA. The information collection requirements incorporated within the Class Exemptions are intended to ensure that a Class Exemption is not abused, the rights of participants and beneficiaries are protected, and the affected fiduciaries comply with the Class Exemption's conditions.

Type of Review: Extension of a currently approved collection.

Agency: Pension and Welfare Benefits Administration (PWBA).

Title: Prohibited Transaction Class Exemption 94-71.

OMB Number: 1210-0091.

Affected Public: Business or other for-profit; Individuals or households; and Not-for-profit institutions.

Frequency: On occasion.

Number of Respondnets: 4.

Number of Annual Responses: 1,080.

Estimated Time Per Response: 1 hour.

Total Burden Hours: 40.

Total Annualized Capital/Startup Costs: $0.

Total Annual Costs (operating/maintaining systems or purchasing services): $400.

Description: Prohibited Transaction Class Exemption 94-71 exempts certain transactions authorized by a settlement agreement resulting from an investigation of an employee benefit plan pursuant to the authority of section 504(a) of the Employee Retirement Income Security Act of 1974 (ERISA). The conditions of the exemption include certain notice and disclosure requirements that are intended to protect the interests of plan participants and beneficiaries. The ICR also provides the Department of Labor (DOL) with the necessary information to ensure that the plan is in compliance with the conditions of the exemption. Without the disclosure requirement, the DOL, which may only grant an exemption if it can find that participants and beneficiaries are protected, would be unable to effectively enforce the terms of the class exemption and ensure user compliance.

Type of Review: Extension of a currently approved collection.

Agency: Pension and Welfare Benefits Administration (PWBA).

Title: Prohibited Transaction Class Exemption 96-62; Accelerated Approval of an Otherwise Prohibited Transaction.

OMB Number: 1210-0098.

Affected Public: Business or other for-profit; Individuals or households; and Not-for-profit institutions.

Frequency; On occasion.

Number of Respondents: 42.

Number of Annual Responses: 42.

Estimated Time Per Response: 1.5 minutes.

Total Burden Hours: 53.

Total Annualized Capital/Startup Costs: $0.

Total Annual Costs (operating/maintaining systems or purchasing services): $37,884.

Description: Section 408(a) of the Employee Retirement Income Security Act of 1974 (ERISA) provides that the Secretary of Labor may grant exemptions from the prohibited transaction provisions of sections 406 and 407(a) of ERISA, and directs the Secretary to establish an exemption procedure with respect to such provisions. On July 31, 1996, the Department published Prohibited Transaction Exemption 96-62 which, pursuant to the exemption procedure set forth in 29 CFR part 2570, subpart B, permits a plan to seek approval on an accelerated basis of otherwise prohibited transactions. This ICR is intended to provide the Department with sufficient information to support a finding that the exemption meets the statutory standards of section 408(a) of ERISA, and to provide affected parties with the opportunity to comment on the proposed transaction, while at the same time reducing the regulatory burden associated with processing individual exemptions for transactions prohibited under ERISA.

Ira L. Mills,
Departmental Clearance Officer.

[FR Doc. 01-23313 Filed 9-18-01; 8:45 am]

BILLING CODE 4510-29-M